DEPARTMENT OF DEFENSE

Department of the Army, Corps of Engineers

Intent To Prepare a Draft Environmental Impact Statement (DEIS) for the State of Alaska's Proposed Alaska Stand Alone Pipeline (ASAP) Natural Gas Transportation Pipeline

AGENCY: U.S. Army Corps of Engineers, DoD.

ACTION: Notice of Intent; Extension of scoping period.

SUMMARY: In December 4, 2009, issue of the Federal Register (74 FR 63736), the Alaska District, U.S. Army Corps of Engineers (Corps), published a Notice of Intent to prepare a Draft Environmental Impact Statement (DEIS) to identify and analyze the potential impacts associated with the construction of the proposed Alaska Stand Alone Pipeline (ASAP) natural gas transportation pipeline. In that notice, the Alaska District stated that the scoping period would end on February 5, 2010. In response to several requests, the Alaska District has decided to extend the scoping period to March 8, 2010.

FOR FURTHER INFORMATION CONTACT: Questions about the proposed action and the DEIS can be answered by: Ms. Serena Sweet, Regulatory Division, telephone: (907) 753-2819, toll free in AK: (800) 478-2712, fax: (907) 753-5567, e-mail: serena.e.sweet@usace.army.mil, or mail: U.S. Army Corps of Engineers, CEPOA-RD, Post Office Box 6898, Elmendorf AFB, Alaska 99506-0898. Additional information may be obtained at http://www.asapeis.com.

SUPPLEMENTARY INFORMATION: None.

Date: February 4, 2010.
Approved by:
Serena E. Sweet,
Project Manager, Alaska District, U.S. Army Corps of Engineers.

[FR Doc. 2010-3263 Filed 2-18-10; 8:45 am]

BILLING CODE 3720-58-P